DEPARTMENT OF LABOR

Employment and Training Administration

[TA-W-41,872]

Breed Technologies Incorporated, Knoxville, TN; Notice of Negative Determination Regarding Application for Reconsideration

By application of October 30, 2002, the Union of Needletrades, Industrial & Textile Employees, Tennessee/Kentucky District, requested administrative reconsideration of the Department's negative determination regarding eligibility to apply for Trade Adjustment Assistance (TAA), applicable to workers and former workers of the subject firm. The denial notice was signed on September 24, 2002, and published in the Federal Register on October 10, 2002 (67 FR 63159).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Breed Technologies Incorporated, Knoxville, Tennessee was denied because the “contributed importantly” group eligibility requirement of Section 222(3) of the Trade Act of 1974, as amended, was not met. The “contributed importantly” test is generally demonstrated through a survey of customers of the workers' firm. The survey revealed that none of the respondents increased their purchases of imported automobile seat belt components.

The petitioner states that the production of automobile seat belt components made at the subject firm was relocated to a foreign facility. They further assert that these currently foreign-produced components “will become part of seat belt assemblies that are now being imported from Mexico to the United States”. They conclude that if the subject firm had not decided to shift component production, there would be no job loss.

Seat belt assemblies are not “like or directly competitive” with the products produced (automobile seat belt components) by the subject firm. Therefore, the imports of seat belt assemblies is not relevant in meeting the eligibility requirement of Section 222(3) of the Trade Act of 1974, as amended.

Conclusion

After review of the application and investigative findings, I conclude that there has been no error or misinterpretation of the law or of the facts which would justify reconsideration of the Department of Labor's prior decision. Accordingly, the application is denied.

Signed at Washington, DC, this 13th day of February 2003.
Edward A. Tomchick,
Director, Division of Trade Adjustment Assistance.

[FR Doc. 03-4285 Filed 2-21-03; 8:45 am]

BILLING CODE 4510-30-P